DEPARTMENT OF THE TREASURY

United States Mint

Pricing for the 2016 Mercury Dime, Standing Liberty Quarter, and Walking Liberty Half-Dollar Centennial Gold Coins

AGENCY: United States Mint, Department of the Treasury.

ACTION: Notice.

SUMMARY: The United States Mint announces the prices of the 2016 Mercury Dime, Standing Liberty Quarter, and Walking Liberty Half-Dollar Centennial Gold Coins.

Weekly average gold price | Size | Mercury Dime Centennial Gold Coin | Standing Liberty Centennial Gold Coin | Walking Liberty Centennial Gold Coin
$950.00 to $999.99 | 1/2 oz |  |  | $740.00
| 1/4 oz |  | $397.50 |
| 1/10 oz | $180.00 |  |
$1,000.00 to $1,049.99 | 1/2 oz |  |  | 765.00
| 1/4 oz |  | 410.00 |
| 1/10 oz | 185.00 |  |
$1,050.00 to $1,099.99 | 1/2 oz |  |  | 790.00
| 1/4 oz |  | 422.50 |
| 1/10 oz | 190.00 |  |
$1,100.00 to $1,149.99 | 1/2 oz |  |  | 815.00
| 1/4 oz |  | 435.00 |
| 1/10 oz | 195.00 |  |
$1,150.00 to $1,199.99 | 1/2 oz |  |  | 840.00
| 1/4 oz |  | 447.50 |
| 1/10 oz | 200.00 |  |
$1,200.00 to $1,249.99 | 1/2 oz |  |  | 865.00
| 1/4 oz |  | 460.00 |
| 1/10 oz | 205.00 |  |
$1,250.00 to $1,299.99 | 1/2 oz |  |  | 890.00
| 1/4 oz |  | 472.50 |
| 1/10 oz | 210.00 |  |
$1,300.00 to $1,349.99 | 1/2 oz |  |  | 915.00
| 1/4 oz |  | 485.00 |
| 1/10 oz | 215.00 |  |
$1,350.00 to $1,399.99 | 1/2 oz |  |  | 940.00
| 1/4 oz |  | 497.50 |
| 1/10 oz | 220.00 |  |
$1,400.00 to $1,449.99 | 1/2 oz |  |  | 965.00
| 1/4 oz |  | 510.00 |
| 1/10 oz | 225.00 |  |
$1,450.00 to $1,499.99 | 1/2 oz |  |  | 990.00
| 1/4 oz |  | 522.50 |
| 1/10 oz | 230.00 |  |

The full 2016 Pricing of Numismatic Gold, Commemorative Gold, and Platinum Products grid is located at www.usmint.gov.

Pricing can vary weekly dependent upon the London Bullion Market Association (LBMA) Gold Price weekly average. The gold price is evaluated every Wednesday and is modified as necessary.

FOR FURTHER INFORMATION CONTACT: Jason Laurie, Program Manager; Numismatic and Bullion Department; United States Mint; 801 9th Street NW., Washington, DC 20220; or call 202-354-7500.

Authority: 31 U.S.C. 5111, 5112, & 9701.

Dated: April 8, 2016.
Richard A. Peterson,
Deputy Director for Manufacturing and Quality, United States Mint.

[FR Doc. 2016-08702 Filed 4-14-16; 8:45 am]

BILLING CODE P